DEPARTMENT OF TRANSPORTATION

Federal Transit Administration

Early Scoping Notification for the Alternatives Analysis of the Tacoma Link Expansion in Tacoma, WA

AGENCY: Federal Transit Administration (FTA), DOT.

ACTION: Notification of early scoping meeting.

SUMMARY: The Federal Transit Administration (FTA) and the Central Puget Sound Regional Transit Authority (Sound Transit) issue this early scoping notice to advise other agencies and the public that they intend to explore potential alternatives for expanding the existing Tacoma Link light rail transit system in Tacoma, Pierce County Washington, in order to improve connections to the regional transit system and major activity centers. This notice invites the public to help frame the upcoming alternatives analysis by commenting on: the project's purpose and need, the transportation problems to be addressed by the study, potential solutions to the problems, the relevant transportation and community impacts and benefits to be considered, the appropriate extent of the study area, and ways for the public to participate in the alternatives analysis process. The alternatives analysis is likely to conclude with the identification of a preferred mode and corridor. If preparation of an environmental Impact Statement (EIS) is warranted following completion of the planning alternatives analysis, FTA will publish a Notice of Intent to prepare an EIS.

This early scoping process is intended to support the alternatives analysis and a future National Environmental Policy Act (NEPA) scoping process, as appropriate. In addition, it supports FTA planning requirements associated with the New Starts (“Section 5309”) funding program for certain kinds of major capital investments. While recent legislation may lead to changes in the New Starts process, Sound Transit will comply with relevant FTA requirements relating to planning and project development to help it analyze and screen alternatives in preparation for NEPA.

Public meetings are described immediately below. Following that is a more detailed discussion of the project and this early scoping process.

DATES: Combined scoping meetings where agencies and the public can learn more about and comment on the proposal will be held on August 22, 2012 at the following times and locations:

1. People's Community Center, 1602 S. Martin Luther King Jr. Way, Tacoma, WA, 11 a.m. to 1 p.m.

2. Tacoma Dome Station Plaza, 424 E 25th St., Tacoma, WA, 4 p.m. to 7 p.m.

At the public and agency scoping meetings, Sound Transit will provide information on the alternatives analysis along with opportunities for written comments. Information is also available at www.soundtransit.org/TacomaLinkExpansion. Written scoping comments are requested by September 17, 2012 and can be sent or emailed to the address below, submitted at a public meeting, or sent via the comment form at www.soundtransit.org/TacomaLinkExpansion.

ADDRESSES: Erin Hunter, Sound Transit, 401 S. Jackson St., Seattle, WA 98104-2826, or by email to erin.hunter@soundtransit.org.

FOR FURTHER INFORMATION CONTACT: John Witmer, FTA Community Planner, Jackson Federal Building, 915 Second Avenue, Suite 3142, Seattle, WA 98174; Phone: (206) 220-7964; email: John.Witmer@dot.gov.

SUPPLEMENTARY INFORMATION:

Early Scoping

The alternatives analysis provides the local forum for evaluating the costs, benefits, and impacts of a range of transportation alternatives designed to address mobility problems and other locally-identified objectives in a defined transportation corridor, and it provides an opportunity for determining which particular investment strategy should be advanced for more focused study and development. Early scoping for the Tacoma Link Expansion project is in accordance with NEPA policies stated in the Council on Environmental Quality's regulations and guidance for implementing NEPA, which encourage federal agencies to initiate NEPA early in their planning processes. See 40 CFR 1501.2 through 8. It allows the scoping process to begin as soon as there is enough information to describe the proposal so that the public and relevant agencies can participate effectively. This is particularly useful when a potential proposed action involves a broadly defined corridor with an array of modal and alignment alternatives under consideration.

This early scoping notice solicits public comments on the scope of the planning alternatives analysis, including the purpose and need for the project, a range of alternatives, and the environmental, transportation and community impacts and benefits to be considered.

Tacoma Link and the Regional Transit System

The Tacoma Link light rail transit system is currently 1.6 miles long and serves six at-grade stations. It serves the Tacoma Dome Station (with connections to Sound Transit's Sounder commuter rail service and Regional Express bus service, as well as Pierce Transit and Intercity Transit), the University of Washington-Tacoma, Union Station, the Greater Tacoma Convention and Trade Center, and the downtown Tacoma business and theater districts.

Sound Move, the first phase of regional transit investments, was approved and funded by voters in 1996. Sound Transit is now completing its implementation. It includes light rail, commuter rail and regional express bus infrastructure and service, including the Central Link light rail system between Northgate, the University of Washington, downtown Seattle, Tukwila and SeaTac. In 2003, Tacoma Link light rail operation began. Regional Express bus service includes routes connecting the Tacoma Dome Station to other regional destinations, including Sea-Tac Airport and downtown Seattle. Sounder commuter rail service connects Tacoma to Seattle's King Street Station and north through several stops to an Everett terminus. In 2004, Sound Transit began planning for the phase of investment to follow Sound Move. This work included updating Sound Transit's Long-Range Plan and associated environmental review. Following several years of system planning work to detail, evaluate, and prioritize the next round of regional transit system expansion, voters in 2008 authorized funding to extend the Tacoma Link light rail system as part of the Sound Transit 2 (ST2) Plan. The ST2 Plan also extends light rail to Bellevue and Redmond to the east, to Northgate and Lynnwood to the north, and to Federal Way to the south.

Transportation Purpose of the Tacoma Link Expansion Project

Sound Transit invites comments on the following preliminary statement of the project's purpose and need.

The purpose of the Tacoma Link Expansion is to improve mobility and access to the regional transit system for Tacoma residents, employees, and visitors by connecting the existing Tacoma Link system with Tacoma's major activity centers and destinations within the City. The need for this project arises from:

• The need to meet the rapidly growing connectivity needs of the corridor and the region's future residents and workers by increasing mobility, access, and transportation capacity to and from regional growth and activity centers in Tacoma and the rest of the region, as called for in the region's adopted plans, including the Puget Sound Regional Council's (PSRC) VISION 2040 and Transportation 2040, as well as related county and city comprehensive plans.

• The need to link downtown Tacoma with other City growth centers. City Comprehensive Plan policies specify the city's intention to locate major residential and employment growth in Mixed Use and Manufacturing/Industrial Centers. Extending the Tacoma Link to these centers would encourage denser, more transit-oriented development and further concentrate higher-wage manufacturing and industrial jobs, and reduce the number of vehicle miles traveled as commute trips.

• The need to serve increasing commute trips to the downtown core via transit. Tacoma's downtown core contains a majority of the jobs within the city today and is projected to continue to do so in the future. Increasing numbers of commuters will need alternative ways to access jobs within the downtown core.

• The need to support the land use planning goals of Tacoma's South Downtown Subarea Plan, the MLK Subarea Plan and the other Growth and Employment centers. Several current City planning processes are designed to encourage transit-oriented, mixed-use development and economic revitalization in areas of Tacoma that are designated for future regional growth concentrations.

• The need to reduce greenhouse gas emissions within the City of Tacoma. The City of Tacoma Climate Action Plan calls for substantial reductions in greenhouse gas emissions. Transportation causes 53% of Tacoma greenhouse gas emissions. A Tacoma Link extension would support City plans to increase the use of all public transportation modes.

• The need to support economic development in downtown Tacoma. The Downtown Tacoma Economic Development Strategy lists the existing Tacoma Link as a key asset that establishes downtown's identity and may help encourage future development and investment. One of the City of Tacoma's primary goals for economic development is to stimulate investor interest in downtown. The expansion of Tacoma Link presents an opportunity to achieve the City's economic development goals.

• The following goals and objectives, which are a part of Sound Transit's Regional Transit Long-Range Plan (2005) and its long-range vision for regional transit:

○ Ensure long-term mobility, connectivity and convenience;

○ Preserve communities and open space;

○ Contribute to the region's economic vitality;

○ Preserve the environment; and

○ Strengthen communities' use of the regional transit network.

Potential Alternatives

Sound Transit will explore alternative mode, alignment, and design configurations for an expansion of the Tacoma Link light rail system. At least one alternative analyzed will be a Bus Rapid Transit (BRT) alternative. Sound Transit conducted a “pre-alternatives analysis” and issued a report in September 2011. The pre-alternatives analysis evaluated eight potential corridors for the expansion of Tacoma Link. Six of the corridors were proposed by a stakeholder group, which included diverse representation of Tacoma and the region. Sound Transit included two additional corridors for assessment in the pre-alternatives analysis to address the potential corridors for Tacoma Link expansion contemplated in Sound Transit's Regional Transit Long-Range Plan (2005). Sound Transit invites comments on the alternative transit modes, alignments, and station locations to be studied, and on proposed evaluation measures to be used to compare alternatives. Alternatives already identified for consideration include:

• North End—Extends north from Theater District to Stadium District; west to University of Puget Sound.

• North End Central—Extends north from Theater District to Stadium District; west via Division Ave./6th St. to Alder/Cedar St.

• North Downtown Central—Extends north from Theater District to Stadium District; west to north end of MLK district and south to S. 19th St.

• South Downtown to MLK—Extends from Union Station west to S. 19th St., north through MLK district to Division St.

• South Downtown Central—Extends from Union Station west to S. 19th St., continues west to Tacoma Community College.

• South End—Extends from 25th Street Station south to 34th & Pacific District to S. 38th St., west to Tacoma Mall.

• Eastside—Extends east from Tacoma Dome, south towards Salishan to 72nd St. Transit Center.

• Pacific Highway—Extends east from Tacoma Dome to the Puyallup Tribe's commercial center on Pacific Highway South at Fife.

Sound Transit may also consider other alternatives that arise during the public comment period.

The definition of these alternatives for analysis will reflect a range of high and low cost capital improvements, including non-guideway options which can serve as a “baseline” for measuring the merits of more expensive investments. Sound Transit will identify measures for evaluating the relative merits of alternatives, and technical methodologies for generating the information used to support such measures. These measures will typically include disciplines such as travel forecasting, capital and operations and maintenance costs, and corridor-level environmental and land use analyses. Sound Transit will also develop and assess the costs, benefits, and impacts of each alternative and analyze funding strategies.

At the end of the alternatives analysis process, Sound Transit and the FTA anticipate identifying a preferred mode and corridor for further evaluation in a NEPA environmental document (the classification of which is to be determined). If the preferred mode and corridor involve the potential for significant environmental impacts requiring an EIS, a Notice of Intent to Prepare an EIS will be published in the Federal Register, and public and agency comment on the scope of the EIS will be invited and considered at that time.

Issued on: August 9, 2012.
Richard Krochalis,
Regional Administrator.

[FR Doc. 2012-20220 Filed 8-16-12; 8:45 am]

BILLING CODE P